DEPARTMENT OF AGRICULTURE

Food Safety and Inspection Service

9 CFR Parts 321, 332, and 381

[Docket No. FSIS-2008-0039]

RIN 0583-AD37

Cooperative Inspection Programs: Interstate Shipment of Meat and Poultry Products

AGENCY: Food Safety and Inspection Service, USDA.

ACTION: Notice of public meetings.

SUMMARY: The Food Safety and Inspection Service (FSIS) is announcing that it will hold two public meetings on proposed regulations that it recently published to implement a new voluntary cooperative program under which State-inspected establishments with 25 or fewer employees will be eligible to ship meat and poultry products in interstate commerce (74 FR 47648, September 16, 2009). To provide stakeholders with ready access to the public meetings, FSIS will conduct these meetings by teleconference. This notice provides information on the public meetings.

DATES: The teleconferences will be held on October 27, 2009, from 12:30 p.m. to 4:30 p.m. EST, and on November 5, 2009, from 12:30 p.m. to 4:30 p.m. EST.

ADDRESSES:

Registration: Pre-registration for these meetings is required. To pre-register, access the FSIS Web site, at http://www.fsis.usda.gov/News/Meetings_&_Events/. Call-in information will be provided via e-mail to pre-registered participants. We are also asking that anyone interested in making a public comment during the teleconference indicate so on the registration form.

Public Comment: In addition to these teleconferences, interested persons may submit comments on the proposed rule on or before November 16, 2009, using either of the following methods:

Federal eRulemaking Portal: Go to http://www.regulations.gov and follow the online instructions at that site for submitting comments.

Mail, including floppy disks or CD-ROMs, and hand- or courier-delivered items: Send to Docket Clerk, U.S. Department of Agriculture, Food Safety and Inspection Service, Room 2-2127 George Washington Carver Center, 5601 Sunnyside Avenue, Beltsville, MD 20705, MAILSTOP 5272.

Instructions: All items submitted by mail or electronic mail must include the Agency name and docket number FSIS-2008-0039. Comments received in response to this docket will be made available for public inspection and posted without change, including any personal information, to: http://www.regulations.gov.

Docket: For access to background documents or comments received, go to the FSIS Docket Room at the address listed above between 8:30 a.m. and 4:30 p.m., Monday through Friday.

FOR FURTHER INFORMATION CONTACT: For technical information: contact Philip Derfler, Assistant Administrator, Office of Policy and Program Development, at (202) 720-2709, or by fax at (202) 720-2025.

For teleconference information: contact Sharon Randle, Public Affairs Specialist, Congressional and Public Affairs Office, by telephone at (202) 720-6755, or by e-mail to sharon.randle@fsis.usda.gov.

SUPPLEMENTARY INFORMATION:

I. Background

On September 16, 2009, FSIS published a proposed rule to implement a new voluntary cooperative program under which State-inspected establishments with 25 or fewer employees will be eligible to ship meat and poultry products in interstate commerce. In participating States, State-inspected establishments that are selected, to take part in this program will be required to comply with all Federal standards under the Federal Meat Inspection Act (FMIA) and the Poultry Products Inspection Act (PPIA), as well as with all State standards. Establishments selected for the proposed interstate shipment program will receive inspection services from State inspection personnel that have been trained in the enforcement of the FMIA and PPIA. Meat and poultry products produced under the program that have been inspected and passed by designated State personnel will bear an official Federal mark of inspection and will be permitted to be distributed in interstate commerce. FSIS will provide oversight and enforcement of the program. Section 11015 of the Food, Conservation, and Energy Act, enacted on June 18, 2008, (the 2008 Farm Bill), amended the FMIA and PPIA to provide for these cooperative programs.

State participation in the proposed cooperative interstate shipment program will be limited to States that have cooperative State meat or poultry inspection programs under which products are produced for distributed solely within the State. Under the existing cooperative inspection programs, States enforce inspection and sanitation requirements that must be “at least equal to” those in the FMIA and the PPIA. Twenty-seven states have cooperative agreements to administer these meat or poultry products inspection programs. These States inspect about 1,900 small and very small establishments.

Under the proposed regulations, establishments will apply for the new program through the States. FSIS will coordinate with States to select establishments to participate in the program. The proposed interstate shipment program is intended to supplement, not replace, the existing cooperative State inspection programs.

II. Purpose of the Meeting and Agenda

To provide the public with an opportunity to comment on the proposed rule, FSIS will hold two public meetings by teleconference. The first meeting will be held on October 27, 2009, and the second will be held on November 5, 2009. The teleconference format is being used to provide individuals with easier access to the meeting, particularly those who may lack the resources or time to attend a meeting in person. The teleconference format is also economically beneficial to all stakeholders. Interested persons are encouraged to join the teleconference at or near the start time. FSIS may end the teleconference early if participants are no longer calling in to make comments. The agenda and other documents related to the meetings will be made available for viewing prior to the meeting at FSIS: http://www.fsis.usda.gov/News/Meetings_&_Events/.

III. Transcripts

As soon as the meeting transcripts are available, they will be accessible at http://www.regulations.gov. The transcripts may be viewed at FSIS Docket Room, U.S. Department of Agriculture, Food Safety and Inspection Service, Room 2-2127 George Washington Carver Center, 5601 Sunnyside Avenue, Beltsville, MD 20705.

Additional Public Notification

Public awareness of all segments of rulemaking and policy development is important. Consequently, in an effort to ensure that the public and in particular minorities, women, and persons with disabilities, are aware of this notice, FSIS will announce it on-line through the FSIS Web page located at: http://www.fsis.usda.gov/regulations/2009_Notices_Index/. FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service delivered to industry, trade, and farm groups, consumer interest groups, allied health professionals, scientific professionals, and other individuals who have requested to be included. The Update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/. Options range from recalls, export information, regulations, directives, and notices. Customers can add or delete subscriptions themselves, and have the option to password protect their accounts.

Done at Washington, DC, on October 20, 2009.
Alfred V. Almanza,
Administrator, FSIS.

[FR Doc. E9-25522 Filed 10-20-09; 4:15 pm]

BILLING CODE 3410-DM-P